DEPARTMENT OF ENERGY

Federal Energy Regulatory Commission

[Docket Nos. CP17-75-000: PR17-19-000]

American Midstream (Bamagas Intrastate), LLC; Notice of Technical Conference

Take notice that an informal technical conference concerning the above-captioned proceedings will be convened by phone on April 19, 2017, at 2:30 p.m. (EDT). The purpose of the teleconference will be to discuss comments in the proceedings.

All interested parties are invited to participate by phone. Please email Damien Gaul at Damien.Gaul@ferc.gov or call (202) 502-8008 by Tuesday, April 18, 2017, to RSVP and to receive specific instructions on how to participate.

Dated: April 13, 2017.
Kimberly D. Bose,
Secretary.

[FR Doc. 2017-07975 Filed 4-19-17; 8:45 am]

BILLING CODE 6717-01-P